NUCLEAR REGULATORY COMMISSION

[Docket No. 72-8]

Calvert Cliffs Nuclear Power Plant; Notice of Docketing of the Materials License SNM-2505; Amendment Application for the Calvert Cliffs Independent Spent Fuel Storage Installation

By letter dated July 26, 2001, Calvert Cliffs Nuclear Power Plant, Inc. (CCNPP), submitted an application to the Nuclear Regulatory Commission (NRC or the Commission) in accordance with 10 CFR part 72 requesting an amendment of the Calvert Cliffs independent spent fuel storage installation (ISFSI) license (SNM-2505) for the ISFSI located in Calvert County, Maryland. CCNPP is requesting Commission approval to amend SNM-2505 to reflect revised fuel assembly integrity analysis as described in the Safety Analysis Report. CCNPP proposed changes to Technical Specification 2.3 to remove the 15-inch drop height limit and require inspection after any drop of a dry shielded canister. CCNPP also proposed a change to Technical Specification 6.3 to revise the reference to a semi-annual environmental reporting period to be consistent with the annual reporting requirements of 10 CFR 50.36a(2).

This application was docketed under 10 CFR part 72; the ISFSI Docket No. is 72-8 and will remain the same for this action. The amendment of an ISFSI license is subject to the Commission's approval.

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2) and provide notice of the action taken and an opportunity for interested persons to request a hearing on whether the action should be rescinded or modified.

The NRC maintains an Agencywide Documents Access and Management System (ADAMS), which provides text and image files of NRC's public documents. These documents may be accessed through NRC's Public Electronic Reading Room on the Internet at http://www.nrc.gov/nrc/adams/index.html. If you do not have access to ADAMS or if there are problems in accessing documents located in ADAMS, contact the NRC Public Document Room Reference staff at 1-800-397-4209, 301-415-4737, or by e-mail to pdr@nrc.gov.

Dated at Rockville, Maryland, this 29th day of August 2001.
For the Nuclear Regulatory Commission.
E. William Brach,
Director, Spent Fuel Project Office, Office of Nuclear Material Safety and Safeguards.

[FR Doc. 01-22515 Filed 9-6-01; 8:45 am]

BILLING CODE 7590-01-P